DEPARTMENT OF HOUSING AND URBAN DEVELOPMENT

[Docket No. FR-5828-N-47]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; GSA: Mr. Flavio Peres, General Services Administration, Office of Real Property Utilization and Disposal, 1800 F Street NW., Room 7040 Washington, DC 20405, (202) 501-0084; NAVY: Mr. Steve Matteo, Department of the Navy, Asset Management; Division, Naval Facilities Engineering Command, Washington Navy Yard, 1330 Patterson Ave. SW., Suite 1000, Washington, DC 20374; (202) 685-9426. (These are not toll-free numbers.)

Dated: November 12, 2015.
Brian P. Fitzmaurice
Director, Division of Community Assistance, Office of Special Needs Assistance Programs.

TITLE V, FEDERAL SURPLUS PROPERTY PROGRAM FEDERAL REGISTER REPORT FOR 11/20/2015

Suitable/Available Properties

Building

Mississippi

Quonset Hut Storage

(72-0005-TAL); Intersection of Rd. 2441/2081

Abbeville MS 38601

Landholding Agency: Agriculture

Property Number: 15201540001

Status: Excess

Directions: (34 degrees 30′06.0″ N 89 degrees 26′18.0″ W)

Comments: off-site removal only; 1,677 sq. ft.; storage; removal difficult due to type/size; needs new roof/siding; asbestos; contact Agriculture for more information

Oklahoma

Carl F. Albert FB/CH

McAlester

301 E. Carl Albert Parkway

McAlester OK 74501

Landholding Agency: GSA

Property Number: 54201540014

Status: Excess

GSA Number: 7-G-OK-0583-AA

Comments: 101+ yrs. old, 13,822 sq. ft.; office & courtroom; remediation of asbestos needed; roof in need of significant repairs; includes 0.49 acres; contact GSA for more information.

Wisconsin

Social Security Office Bldg.

606 N. 9th Street

Sheboygan WI

Landholding Agency: GSA

Property Number: 54201540012

Status: Excess

GSA Number: 1-W-623-AA

Directions: WI0098ZZ

Comments: 37+ yrs. old; 4,566 sq. ft.; office building; contact GSA for more information.

Suitable/Available Properties

Land

Nevada

USGS Elko Parcel

1701 North 5th Street

Elko NV 89801

Landholding Agency: GSA

Property Number: 54201540013

Status: Surplus

GSA Number: 9-I-NV-0465-AE

Directions: Previous “H Facility”

Comments: 0.90 acres; contact GSA for more information.

South Carolina

Formerly the FAA's D7 Remote

Communications Link Receiver Fac.

Latitude N. 33.418194 & Longitude W. 80.13738

Eadytown SC

Landholding Agency: GSA

Property Number: 54201540011

Status: Surplus

GSA Number: 4-U-SC-0633-AA

Directions: Landholding Agency: Transportation; Disposal Agency: GSA

Comments: 5.5 acres; Remote Communications Link Receiver Facility; contact GSA for more information.

Unsuitable Properties

Land

California

Stuart Mesa Site

Marine Corps Base, Camp Pendleton

Oceanside CA 92058

Landholding Agency: Navy

Property Number: 77201540005

Status: Unutilized

Comments: Public access denied and no alternative method to gain access without compromising national security.

Reasons: Secured Area

California

Parcel 4A27, 4A28, 4A29, 4A31, 4A34

Security Post 1 Alpha Reeves Gate

Lemoore Naval Air Station CA 93246

Landholding Agency: Navy

Property Number: 77201540006

Status: Underutilized

Directions: Item 1 RESM DTD JUL2012

Comments: Located within an airport runway; located within floodway; Public access denied and no alternative method to gain access w/o compromising national security.

Reasons: Floodway; Within airport runway clear zone; Secured Area

[FR Doc. 2015-29341 Filed 11-19-15; 8:45 am]

BILLING CODE 4210-67-P